SOCIAL SECURITY ADMINISTRATION

On Behalf of the Accessibility Committee of the Federal CIO Council (29 U.S.C. 794d); Listening Session on Improving the Accessibility of Government Information

AGENCY: CIO Council, SSA.

ACTION: Notice of meeting.

SUMMARY: This notice announces a listening session on improving the accessibility of government information. Section 508 of the Rehabilitation Act (29 U.S.C. 794d) requires federal agencies to buy and use electronic and information technology (EIT) that is accessible. On July 19, 2010, the Office of Management and Budget (OMB) issued to a memo to federal agencies on “Improving the Accessibility of Government Information” which directs them to take stronger steps toward improving the acquisition and implementation of accessible technology. In order to better understand the needs of diverse communities and provide better solutions, the U.S. Council of CIOs, in collaboration with the Chief Acquisition Officers Council, the GSA Office of Governmentwide Policy, and the U.S. Access Board, is holding the first in a series of listening sessions to encourage citizens and employees to express their concerns and propose ideas. Persons with disabilities, their advocates, and government employees are invited to participate.

DATES: Meeting Date: The listening session will be held on Thursday, March 17, 2011, from 1:50 p.m. to 5:20 p.m. Pacific Time (PT).

Persons wishing to address the panel at the listening session can pre-register by contacting Emily Koo at (410) 965-4472 or Innovate.Accessibility@ssa.gov. Pre-registrants will be given priority in addressing the panel in San Diego. Registration will also be available in person in San Diego on the afternoon of the listening session.

ADDRESSES: Meeting Location: The listening session will be held at the Manchester Grand Hyatt Hotel, One Market Place, San Diego, California 92101 in the Randle E Meeting Room.

Accommodations: The listening session will have sign language interpreters, CART (real time captioning) services, Assistive Listening Devices (ALDs), and microphones. Materials will be available in Braille, large print, and electronic formats. The Manchester Grand Hyatt Hotel is wheelchair accessible. Anyone needing other accommodations should include a specific request when registering in advance.

FOR FURTHER INFORMATION CONTACT: Emily Koo at (410) 965-4472 or Innovate.Accessibility@ssa.gov.

SUPPLEMENTARY INFORMATION: In 1998, Congress amended the Rehabilitation Act of 1973 to require Federal agencies to make their electronic and information technology (EIT) accessible to people with disabilities. Inaccessible technology interferes with the ability to obtain and use information quickly and easily. Section 508 of the Act was enacted to eliminate barriers in information technology, open new opportunities for people with disabilities, and encourage development of technologies that will help achieve these goals. The law applies to all Federal agencies when they develop, procure, maintain, or use electronic information technology. Under Section 508 (29 U.S.C. 794d), agencies must give disabled employees and members of the public access to information that is comparable to access available to others.

Effective implementation of Section 508 is an essential element of President Obama's principles of open government—requiring that all government and data be accessible to all citizens. In order for the goal of open government to be meaningful for persons with disabilities, technology must also be accessible, including digital content. In July 2010, OMB took steps to ensure that the Federal Government's progress in implementing Section 508 is stronger and achieves results more quickly.

Section 508 requires the General Services Administration (GSA) to provide technical assistance to agencies on Section 508 implementation. GSA has created a number of tools, available at http://www.Section508.gov, to help agencies to develop accessible requirements, test the acceptance process, and share lessons learned and best practices. For example:

• The BuyAccessible Wizard (http://www.buyaccessible.gov) helps build compliant requirements and solicitations;

• The Quick Links site (https://app.buyaccessible.gov/baw/KwikLinksMain.jsp) provides pre-packaged Section 508 solicitation documents;

• The BuyAccessible Products and Services Directory (https://app.buyaccessible.gov/DataCenter/) provides a registry of companies and accessibility information about their offerings; and

• The Section 508 blog (http://buyaccessible.net/blog/) provides a venue where stakeholders may share ideas and success stories, or engage in conversations on improving accessibility.

OMB has directed that several actions be taken to improve Section 508 performance:

• By mid-January 2011, GSA's Office of Governmentwide Policy (OGP) is required to provide updated guidance on making government EIT accessible. This guidance will build upon existing resources to address challenges, increase oversight, and reduce costs associated with acquiring and managing EIT solutions that are not accessible.

• By mid-January 2011, GSA's OGP is required to update its general Section 508 training to offer refreshed continuous learning modules that can be used by contracting officers, program/project managers (especially those managing IT programs), and contracting officer technical representatives (COTRs), as they fulfill their Federal Acquisition Certification requirements.

• GSA's OGP and the Department of Justice (DOJ) will issue a survey to allow agencies to assess their implementation of Section 508, including accessibility of websites and other technology used by the agencies. DOJ will use this information in preparing its next assessment of agency compliance as required by the Rehabilitation Act. The Accessibility Committee of the Federal CIO Council will also use this information to identify best practices and lessons learned.

• In the spring of 2011, DOJ will issue a progress report on Federal agency compliance with Section 508, the first since 2004. Going forward, DOJ will meet its obligation to issue a report biennially.

• Beginning in FY 2011, GSA's OGP will begin providing a quarterly summary report to OMB containing results of Section 508 reviews of a sample of solicitations posted on FedBizOpps.gov. GSA will provide the agencies with a summary of the sampling results to facilitate sharing of best practices and successes, and to address common challenges.

This listening session hosted by Accessibility Committee of the Federal CIO Council will focus on what other steps the federal government can take to increase the accessibility and usability of government information and data for persons with disabilities. Input is sought on the following questions:

• What can technology do to improve things for people with disabilities?

• What can the Federal Government do to use technology better or in new ways?

• What can the Federal Government do to make technology more accessible?

• What emerging technologies used by the Federal Government leave you out?

• What technologies should the Federal Government use to enhance your interactions with it?

• What are State and local governments doing to improve information technology accessibility that the Federal Government should follow?

• What is academia doing to implement IT accessibility that the Federal government should follow?

• What is private industry doing to implement IT accessibility that the Federal government should follow?

• What can the Federal government do to influence technology accessibility?

• What can the Federal government do to support the availability of effective Communities of Practice on IT accessibility?

• From the perspective of Federal employees, how has Section 508 improved your ability to do your job? How can implementation of Section 508 be improved?

• From the perspective of Federal employees, state employees and members of the public, do you want training on Section 508? What is the best way for you to learn about Section 508 and how it impacts your job or your access to government Web sites?

• From the perspective of vendors, how can implementation of Section 508 be improved?

• What could the Federal Government ask for that would allow vendors to better show that their products meet accessibility needs?

• What improvements could be made to the methods and processes used to establish whether a product is accessible (i.e.,VPATs)?

• Do you believe the IT industry would benefit from a professional certification or credential that denotes a company's expertise in accessibility? How could that be implemented and managed, and should the government play a role in making that happen?

Feedback from the listening session will be used by, and shared across, agencies to improve accessibility and usability.

Karen Palm,
Associate Chief Information Officer.

[FR Doc. 2011-3311 Filed 2-14-11; 8:45 am]

BILLING CODE P